DEPARTMENT OF AGRICULTURE

Submission for OMB Review; Comment Request

March 4, 2021.

The Department of Agriculture has submitted the following information collection requirement(s) to OMB for review and clearance under the Paperwork Reduction Act of 1995, Public Law 104-13. Comments are requested regarding whether the collection of information is necessary for the proper performance of the functions of the agency, including whether the information will have practical utility; the accuracy of the agency's estimate of burden including the validity of the methodology and assumptions used; ways to enhance the quality, utility and clarity of the information to be collected; and ways to minimize the burden of the collection of information on those who are to respond, including through the use of appropriate automated, electronic, mechanical, or other technological collection techniques or other forms of information technology.

Comments regarding this information collection received by April 8, 2021 will be considered. Written comments and recommendations for the proposed information collection should be submitted within 30 days of the publication of this notice on the following website www.reginfo.gov/public/do/PRAMain. Find this particular information collection by selecting “Currently under 30-day Review—Open for Public Comments” or by using the search function.

An agency may not conduct or sponsor a collection of information unless the collection of information displays a currently valid OMB control number and the agency informs potential persons who are to respond to the collection of information that such persons are not required to respond to the collection of information unless it displays a currently valid OMB control number.

Food Safety and Inspection Service

Title: Common or Usual Name for Raw Meat and Poultry Products Containing Added Solutions.

OMB Control Number: 0583-0152.

Summary of Collection: The Food Safety and Inspection Service (FSIS) has been delegated the authority to exercise the functions of the Secretary as provided in the Federal Meat Inspection Act (FMIA) (21 U.S.C. 601 et seq.) and the Poultry Products Inspection Act (PPIA) (21 U.S.C. 451 et seq.). These statutes mandate that FSIS protect the public by ensuring that meat and poultry products are safe, wholesome, unadulterated, and properly labeled and packaged. FSIS regulations establish a common or usual name for raw meat and poultry products that do not meet standard or identity regulations and to which solutions have been added. Products with added solutions are sometimes called referred to as “enhanced products.”

Need and use of the Information: FSIS requires establishments that manufacture products containing added solutions to label the products with a descriptive designation that provides an accurate description of the raw meat or poultry component, the percentage of added solution incorporated into the raw meat or poultry product, and the individual ingredients or multi-ingredient components in the solution listed in the descending order of predominance by weight on the product label. FSIS also requires that the product name and the descriptive designation be printed in a single easy-to-read type style and color and on a single-color contrasting background.

Description of Respondents: Business or other for-profit.

Number of Respondents: 6,100.

Frequency of Responses: Recordkeeping; Reporting: On occasion.

Total Burden Hours: 61,000.

Ruth Brown,
Departmental Information Collection Clearance Officer.

[FR Doc. 2021-04822 Filed 3-8-21; 8:45 am]

BILLING CODE 3410-DM-P